DEPARTMENT OF TRANSPORTATION

Coast Guard

[USCG-2001-10485]

Oily Water Separation Systems

AGENCY: Coast Guard, DOT.

ACTION: Notice; request for comments.

SUMMARY: The Coast Guard has established the Oily Water Separation Systems Task Force to examine a wide range of issues relating to machinery and equipment used to manage oily bilge water on commercial vessels. The task force plans to assess the operational requirements, reliability, and capability of oily water separators in actual operating environments; identify ways to improve the Coast Guard's inspection and evaluation of oily water separation systems; and develop recommendations for the maritime industry on how to reach its environmental goals and ensure compliance with the International Convention for the Prevention of Pollution from Ships (MARPOL) and the Clean Water Act. Your answers to this questionnaire will help the task force gather the necessary information to meet these objectives.

DATES: Comments and related materials must reach the Docket Management Facility on or before December 31, 2001.

ADDRESSES: To make sure your comments and related materials are not entered more than once in the docket, please submit them by only one of the following means:

(1) By mail to the Docket Management Facility (USCG-2001-10485), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) By electronic means through the Web Site for the Docket Management System at http://dms.dot.gov.

The Docket Management Facility maintains the public docket for this notice. Comments and materials received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice and request for comments, call Ken Olsen, Casualty Analyst/Chief Engineer, Office of Investigation and Analysis, Coast Guard Headquarters, telephone 202-267-1417. If you have questions on viewing or submitting materials to the docket, call Dorothy Beard, Chief, Dockets, Department of Transportation, telephone 202-366-9329.

SUPPLEMENTARY INFORMATION:

Request for Comments

We encourage you to participate in this Coast Guard study by submitting comments and related materials. You may submit comments anonymously or include your name and address, you must identify the docket number for this notice (USCG-2001-10485), indicate the specific question of the questionaire to which each comment applies, and give the reason for each comment. You may submit your comments and materials by mail, hand delivery, fax, or electronic means to the Docket Management Facility at the address under ADDRESSES; but please submit your comments and materials by only one means. If you submit them by mail or hand delivery, submit them in an unbound format, no larger than 8½ by 11 inches, suitable for copying and electronic filing. If you submit them by mail and would like to know they reached the Facility, please enclose a stamped, self-addressed postcard or envelope. Your comments are important to this study and will enhance the Coast Guard's understanding of oily water separation systems and bilge water management issues. We will consider all comments received during the comment period.

Background and Purpose

The regulations governing all vessel particulars regarding Oily Water Separators are found in Title 33 Code of Federal Regulations, part 155. Through a mechanical process, an Oily Water Separator (OWS) will remove the oil from water that accumulates in the bilge of a vessel. As the oil is separated from the water, the water can be discharged from the vessel. If the oil content of the water being discharged reaches 15 parts per million (ppm), the OWS will automatically cease discharging the oily water and retain the oily bilge water on board the vessel. In the last few years, the Coast Guard has discovered numerous instances of improper operation of OWS equipment under the authority of 33 CFR 1.07-10. In some cases, oily water separators simply were not used in the discharge of bilge water. In other instances, sensitive monitoring devices were disabled. Also, certain vessels installed bypass piping, and other vessels routinely used the bilge pumping systems to discharge overboard.

In alignment with the Coast Guard's Prevention Through People Initiatives, the task force recognizes that, within the maritime industry, vessel engineers, operators, equipment designers, technicians, and manufacturers can provide significant insight into the operation of OWS equipment and the management of oily bilge water onboard foreign and domestic commercial vessels. To gain that understanding, the task force has developed the following questionnaire for members of the maritime industry to provide comments. The questionnaire is intended to obtain a status of current industry practices. Respondents are also encouraged to disseminate this information and the questionnaire to industry associates.

Questions

We especially need your assistance in answering the following questions. Every question does not need to be answered. Any additional information provided on this topic is welcome. In responding to each question, please explain your reasons for each answer as specifically as possible. You do not need to provide any information identifying you or your organization.

1. Indicate the categories that best describe your function:

Chief or Assistant Engineer.

Unlicensed Vessel Engineer.

Other Vessel Personnel: Captain, Mate, or Crew

Vessel Owner or Operator.

Vessel Manager or Superintendent.

Port Captain or Engineer.

Naval Architect, Marine Engineer, Manufacturer or Consultant.

Other: Please describe

2. Indicate the types of vessels that you have worked on or that you have experience with:

Passenger Vessels.

Cruise Ships.

Cargo Ships.

Tank Ships.

Pushboats or Tugboats.

Offshore Crew or Supply.

Ferries.

Dredges.

Drill Rigs.

Research vessels.

Government Vessels: Navy, Coast Guard, etc.

3. Based on your experience, what types of equipment, components, tanks, and other machinery are used in handling bilge water?

4. What kinds of problems occur in the handling of bilge water?

5. Is the oily water separation (OWS) equipment always used?

6. What other systems are used to discharge bilges?

7. Generally, has your experience shown that OWS and oil content monitoring equipment (PPM sensors and controls) are reliable in actual operating environments?

8. Are redundant OWS systems necessary? If so, why?

9. Have modifications been made to originally installed OWS equipment by the vessel's crew or others to ensure operation? Please explain.

10. On average, do vessel bilge loads (influx of water and contaminates) typically exceed the capacity of the OWS equipment?

11. Are sufficient operating manuals, information, and guidance provided by the vessel operating company or shipboard management?

12. Does your organization have an environmental policy, and is it understood by all employees?

13. How does your organization ensure that environmental equipment, such as OWS equipment, has the proper maintenance, spare parts, and other items necessary to ensure effective operation?

14. What is your organization's policy on reducing and eliminating engine room waste?

15. Does your company employ any additional mechanical measures to reduce or eliminate waste?

16. Has your experience shown that OWS equipment is typically installed in a manner that permits effective operational testing of controls and alarms, and verification of three-way or process control valve operations?

17. Are discharge sample points usually provided, and do methods exist to process contaminated samples during testing?

18. What practices can be shared industry wide to best ensure proper and effective long-term operation of OWS and bilge management equipment?

19. Please provide any additional comments.

You may mail, deliver, fax, or electronically submit your responses to the questionnaire, as well as any concerns, to the addresses listed under the ADDRESSES section of this notice.

If you would like to receive a copy of the task force report upon completion, please provide an e-mail or mailing address.

Thank you for participating in this survey.

Dated: October 23, 2001.
Joseph J. Angelo,
Director of Standards, Marine Safety and Environmental Protection.

[FR Doc. 01-27250 Filed 10-29-01; 8:45 am]

BILLING CODE 4910-15-P